DEPARTMENT OF ENERGY

Advanced Scientific Computing Advisory Committee; Meeting

AGENCY: Office of Science, Department of Energy.

ACTION: Notice of open meeting.

SUMMARY: This notice announces a meeting of the Advanced Scientific Computing Advisory Committee (ASCAC). Federal Advisory Committee Act (Pub. L. 92-463, 86 Stat. 770) requires that public notice of these meetings be announced in the Federal Register

DATES: Tuesday, August 23, 2011, 9 a.m.-5 p.m.

Wednesday, August 24, 2011, 9 a.m.-12 p.m.

ADDRESSES: Hilton Washington DC/Rockville Hotel & Executive Meeting Center, 1750 Rockville Pike, Rockville, Maryland 20852.

FOR FURTHER INFORMATION CONTACT: Melea Baker, Office of Advanced Scientific Computing Research; SC-21/Germantown Building; U.S. Department of Energy; 1000 Independence Avenue, SW.; Washington, DC 20585-1290; Telephone (301) 903-7486.

SUPPLEMENTARY INFORMATION:

Purpose of the Meeting: The purpose of this meeting is to provide advice and guidance to the Department of Energy on scientific priorities within the field of advanced scientific computing research.

Tentative Agenda Topics

• ASCR program updates.

• EU Data Initiative.

• HPC & EERE Wind Program.

• Early Career Research on Energy Efficient Interconnect for Exascale Computing.

• Separating Algorithm and Implentation.

• Update on ASCR exascale planning & workshops.

• Update on ASCAC COV.

• Update on CSGF Review.

• Public Comment (10-minute rule).

Public Participation: The meeting is open to the public. A webcast of this meeting may be available. Please check the Web site below for updates and information on how to view the meeting. If you would like to file a written statement with the Committee, you may do so either before or after the meeting. If you would like to make oral statements regarding any of the items on the agenda, you should contact Melea Baker by telephone at (301) 903-7486 or by e-mail at Melea.Baker@science.doe.gov. You must make your request for an oral statement at least five business days prior to the meeting. Reasonable provision will be made to include the scheduled oral statements on the agenda. The Chairperson of the Committee is empowered to conduct the meeting in a manner that will facilitate the orderly conduct of business. Public comment will follow the 10-minute rule.

Minutes: The minutes of this meeting will be available on the U.S. Department of Energy's Office of Advanced Scientific Computing Web site for viewing at http://www.sc.doe.gov/ascr.

Issued at Washington, DC on July 26, 2011.
LaTanya Butler,
Acting Deputy Committee Management Officer.

[FR Doc. 2011-19439 Filed 7-29-11; 8:45 am]

BILLING CODE 6450-01-P